Proclamation 7651 of February 28, 2003

Women's History Month, 2003

By the President of the United States of America

A Proclamation

As our Founding Fathers worked to develop the framework of our Nation, Abigail Adams wrote to her husband: “I long to hear that you have declared an independency—and by the way in the new Code of Laws which I suppose it will be necessary for you to make I desire you would Remember the Ladies, and be more generous and favorable to them than your ancestors.” An early advocate of women's rights, a farm and financial manager, and the mother of an American President, John Quincy Adams, Abigail Adams is one of many American women who helped establish the strength and vitality of our Nation. During Women's History Month, we recognize the generations of American women whose important contributions continue to shape our Nation and enrich our society.

Through vision, hard work, and determination, countless American women have broadened opportunities for themselves and for others at home, in the community, and in the workplace. In 1809, Mary Kies became the first woman to receive a U.S. patent. By developing a method of weaving straw with silk, she helped advance American industry and set an inspiring example for other American women. Her pioneering efforts helped define our country's entrepreneurial spirit and paved the way for future generations of women to take pride in their talents and creativity.

Since Mary Kies' groundbreaking achievement, many American women have become successful entrepreneurs and business professionals. In 1905, Madam C.J. Walker started her own business by creating and selling hair care products for African-American women. After a decade, her company was highly successful and employed more than 3,000 people, and at the time, was the largest African-American owned business in the United States. Today, Madam Walker is remembered for her business accomplishments, efforts to create new opportunities for women, and for her contributions to her community.

Driven by the legacy of these extraordinary figures, American women from all backgrounds continue to break barriers and fulfill their personal and professional potential. At the dawn of the 21st century, women have more choices than ever before. Between 1992 and 2002, the number of female college graduates in the United States has increased from 15.9 million to 23.6 million. Women account for 47 percent of all employed persons and are entering the American workforce in record numbers. In the last 10 years, their ranks have increased by 8.7 million. Furthermore, women-owned small businesses are growing twice as fast as all other U.S. firms, employing 7 million Americans and contributing to the vitality of our economy. To build on these successes, my Administration will continue our work to promote policies that advance the aspirations, hopes, and dreams of every American.

This month, as we celebrate remarkable women in our Nation's past, I encourage all citizens to recognize the countless American women whose efforts continue to enhance the economic, social, and cultural life of our great Nation.

NOW, THEREFORE, I, GEORGE W. BUSH, President of the United States of America, by virtue of the authority vested in me by the Constitution and laws of the United States, do hereby proclaim March 2003 as Women's History Month. I call upon all the people of the United States to observe this month with appropriate ceremonies and activities and to remember throughout the year the many contributions of American women.

IN WITNESS WHEREOF, I have hereunto set my hand this twenty-eighth day of February, in the year of our Lord two thousand three, and of the Independence of the United States of America the two hundred and twenty-seventh.

B

[FR Doc. 03-5371

Filed 3-4-03; 9:12 am]

Billing code 3195-01-P